ENVIRONMENTAL PROTECTION AGENCY

[FRL-7921-4]

[E-Docket ID No. Ord-2005-0021]

Workshop to Peer Review Proposed Indicators for the U.S. EPA's 2006 Report on the Environment

AGENCY: Environmental Protection Agency.

ACTION: Notice of peer-review workshop and public comment period.

SUMMARY: The U.S. Environmental Protection Agency (EPA) is announcing that ERG, an EPA contractor for external scientific peer review, will convene a panel of experts and organize and conduct an independent external peer-review workshop to review the Proposed Indicators for the U.S. EPA's 2006 Report on the Environment (hereafter, Proposed Indicators—EPA ROE 2006). EPA is also announcing a 45-day public review and comment period on the Proposed Indicators—EPA ROE 2006. This public comment period and the public peer-review workshop are separate processes and will provide an opportunity for all stakeholders to weigh in on the primary contents of the draft 2006 Report on the Environment (EPA ROE 2006) at an early stage. The selection of the Proposed Indicators—EPA ROE 2006 was coordinated across EPA and with other agencies. The draft text and accompanying information for each indicator were prepared by EPA Program and Regional Offices, the Office of Research and Development (ORD), the Office of Environmental Information (OEI), and the Office of Policy Economics and Innovation (OPEI). In preparing the EPA ROE 2006, EPA will consider ERG's report of the comments and recommendations from the expert peer-review workshop and any public comments EPA receives in accordance with today's notice.

DATES: ERG will hold the three-day peer-review workshop from July 27-29, 2005. The workshop will begin at 8 a.m. for registration and end at approximately 5 p.m., eastern daylight time. Members of the public may attend the peer-review workshop as observers. Interested parties will also have an opportunity to make brief oral statements at the commencement of the meeting each day.

The 45-day public comment period begins June 6, 2005, and ends July 21, 2005. Technical comments should be in writing and must be received by EPA by July 21, 2005.

ADDRESSES: The external peer-review workshop will be held in the Sphinx Room, Almas Temple, 1315 K Street, NW., Washington, DC 20005. To attend the workshop, register by July 21, 2005 at the following Web site: http://www2.ergweb.com/projects/conferences/roe/register-roe.htm. Interested parties can also register for the workshop by contacting ERG, 110 Hartwell Avenue, Lexington, MA 02421; telephone: 781-674-7374 or toll-free 800-803-2833 (between 9 a.m. and 5:30 p.m. EDT); facsimile: 781-674-2906; or e-mail: meetings@erg.com. Please include your full address and contact information. Space is limited, and reservations will be accepted on a first-come, first-served basis. Workshop attendees who wish to make oral statements at the workshop should notify ERG at the time of your initial contact that you would like to register to make a public comment. The workshop agenda is also available at the above-mentioned Web site.

The Proposed Indicators—EPA ROE 2006 are available primarily via the Internet at: http://www.epa.gov/ROEindicators. EPA's peer-review charge is also available at this Web site. Each of the proposed indicators can be downloaded separately from this Web site in the PDF format. A limited number of electronic copies on compact disc (CD) are available from the National Center for Environmental Assessment's Technical Information Staff, NCEA-W; telephone: 202-564-3261; facsimile: 202-565-0050. If you are requesting a CD, please provide your name, your mailing address, and the document title, “Proposed Indicators—EPA ROE 2006.”

Public comments may be submitted electronically via EPA's E-Docket, by mail, by facsimile, or by hand delivery/courier. Please follow the detailed instructions for submission of public comments as provided in the section of this notice entitled SUPPLEMENTARY INFORMATION. ERG will provide copies of the public comments received by July 15, 2005, to the panel of experts prior to the peer-review workshop.

FOR FURTHER INFORMATION CONTACT: For information on the peer review workshop, contact: Conference Registration, ERG, 110 Hartwell Avenue, Lexington, MA 02421; telephone: 781-674-7374 or toll-free at 800-803-2833 between 9 a.m. and 5:30 p.m. EDT; facsimile: 781-674-2906; or e-mail: meetings@erg.com. Questions regarding registration and logistics should be directed to ERG.

For information on the public comment period, contact the OEI Docket; telephone: 202-566-1752; facsimile: 202-566-1753; or e-mail: ORD.Docket@epa.gov.

If you have technical questions about the Proposed Indicators—EPA ROE 2006, contact: Julie Damon, National Center for Environmental Assessment (8601D), U.S. EPA, 1200 Pennsylvania Avenue, NW., Washington, DC 20460; telephone: 202-564-3404; facsimile: 202-565-0065; or e-mail: damon.julie@epa.gov.

SUPPLEMENTARY INFORMATION:

About the Report on the Environment and the Proposed Indicators—EPA ROE 2006

In June 2003, EPA published its first national Draft Report on the Environment, using available indicators and data to answer questions pertaining to national environmental and human health conditions. At that time, EPA released two companion documents—one for readers with a general interest in the environment (Draft Report on the Environment Public Report) and another for more technical readers (Draft Report on the Environment Technical Document). These draft documents utilized indicators to describe the then current environmental conditions, trends, and data gaps.

Shortly after the release of the 2003 draft documents, EPA announced that it planned to release the next Report on the Environment in 2006. Activities related to the development of EPA's 2006 ROE have been ongoing since release of the 2003 draft documents. As in 2003, EPA anticipates the 2006 ROE will include the release of two paper documents—one for readers with a general interest in the environment (a Public Report) and another for more technical readers (a Technical Document). EPA also intends to make the information in the 2006 ROE available as an interactive, searchable Web site—the “e-ROE.” The Technical Document is expected to provide the scientific foundation for the more general Public Report and the e-ROE. EPA plans to use the Technical Document to present and discuss indicators and data that are currently available to answer the questions posed in the ROE 2006.

The peer-review workshop on the proposed indicators we are announcing today precedes the production of the draft EPA ROE 2006 Technical Document. EPA has asked for this peer review to obtain expert opinion on whether the indicators proposed to be included in the EPA ROE 2006 Technical Document are supported by data that are technically sound, meet the established indicator definition and criteria, and help answer the questions posed in the ROE 2006. As noted above, EPA has issued a peer-review charge, which describes the areas of inquiry on which we have asked comment from external experts. EPA encourages the public to submit comments on the same areas of inquiry. In addition, EPA welcomes comments on any other aspect of the proposed indicators that the public would like to share with the Agency. After ERG provides EPA with a report of the peer-review workshop, EPA will consider ERG's report and the public comments. Any resulting revisions to the proposed indicators or any changes to the list of proposed indicators will be discussed within EPA and with our federal agency partners. The external review draft of the EPA ROE 2006 Technical Document is expected in spring/summer 2006.

How to Submit Comments to EPA's E-Docket

EPA has established an official public docket for information pertaining to the Proposed Indicators—EPA ROE 2006, Docket ID No. ORD-2005-0021. The official public docket is the collection of materials, excluding Confidential Business Information (CBI) or other information for which disclosure is restricted by statute, that is available for public viewing at the Office of Environmental Information (OEI) Docket in the Headquarters EPA Docket Center, EPA West Building, Room B102, 1301 Constitution Ave., NW., Washington, DC. The EPA Docket Center Public Reading Room is open from 8:30 a.m. to 4:30 p.m., Monday through Friday, excluding legal holidays. The telephone number for the Public Reading Room is 202-566-1744, and the telephone number for the OEI Docket is 202-566-1752; facsimile: 202-566-1753; or e-mail: ORD.Docket@epa.gov.

An electronic version of the official public docket is available through EPA's electronic public docket and comment system, E-Docket. You may use E-Docket at http://www.epa.gov/edocket/ to submit or view public comments, to access the index of the contents of the official public docket, and to view those documents in the public docket that are available electronically. Once in the system, select “search,” then key in the appropriate docket identification number.

Certain types of information will not be placed in E-Docket. Information claimed as CBI and other information for which disclosure is restricted by statute are not included in the official public docket and also will not be available for public viewing in E-Docket. Copyrighted material will not be placed in E-Docket, but will be referenced there and available as printed material in the official public docket.

If you intend to submit comments to EPA, please note that it is EPA policy to make comments available for public viewing just as they are received at the EPA Docket Center or in E-Docket. This policy applies to information submitted electronically or in paper form, except where restricted by copyright, CBI, or statute. When EPA identifies a comment containing copyrighted material, EPA will provide a reference to that material in the version of the comment placed in EPA's electronic public docket; the entire printed comment, including the copyrighted material, will be available in the official public docket.

Public comments submitted on computer disks that are mailed or delivered to the docket will be transferred to E-Docket. Physical objects will be photographed, where practical, and the photograph will be placed in E-Docket along with a brief description written by the docket staff.

You may submit comments electronically, by mail, by facsimile, or by hand delivery/courier. To ensure proper receipt by EPA, include the appropriate docket identification number with your submission. Please adhere to the specified submitting period; public comments received past the closing date will be marked “late” and may only be considered if time permits.

If you submit public comments electronically, EPA recommends that you include your name, mailing address, and an e-mail address or other contact information in the body of your comment. Also include these contact details on the outside of any submitted disk or CD-ROM, and in any cover letter accompanying the disk or CD-ROM. This ensures that you can be identified as the person submitting the comment and allows EPA to contact you in case the Agency cannot read your submission due to technical difficulties, or needs further information on the substance of your comment. EPA will not edit your comment, and any identifying or contact information provided in the body of the comment will be included as part of the comment placed in the official public docket and made available in E-Docket. If EPA cannot read what you submit due to technical difficulties and cannot contact you for clarification, it may delay or preclude EPA's consideration of your comments.

Electronic submission of comments via E-Docket is the preferred method for receiving comments. To access EPA's electronic public docket from the EPA Internet Home Page, select “Information Sources,” “Dockets,” and “EPA Dockets.” Once in the system, select “search,” and key in Docket ID No. ORD-2005-0021. The system is an “anonymous access” system, which means EPA will not know your identity, e-mail address, or other contact details unless you provide it in the body of your comment.

Comments may be sent by electronic mail (e-mail) to ORD.Docket@epa.gov, Attention Docket ID No. ORD-2005-0021. In contrast to EPA's electronic public docket, EPA's e-mail system is not an “anonymous access” system. If you send an e-mail directly to the docket without going through EPA's E-Docket, EPA's e-mail system automatically captures your e-mail address, and it becomes part of the information in the official public docket and is made available in E-Docket.

You may submit comments on a disk or CD-ROM mailed to the OEI Docket mailing address. Files will be accepted in WordPerfect, Word, or PDF file format. Avoid the use of special characters and any form of encryption. If you provide comments in writing, please submit one unbound original with pages numbered consecutively, and three copies. For attachments, provide an index, number pages consecutively with the main text, and submit an unbound original and three copies.

Dated: May 31, 2005.
Peter W. Preuss,
Director, National Center for Environmental Assessment.

[FR Doc. 05-11162 Filed 6-3-05; 8:45 am]

BILLING CODE 6560-50-P